SECURITIES AND EXCHANGE COMMISSION

[Release No. 34-53092A; File No. SR-CBOE-2005-105]

Self-Regulatory Organizations; Chicago Board Options Exchange, Incorporated; Notice of Filing of Proposed Rule Change Relating to the CBOE's Membership Rules for Foreign Member Organizations

January 19, 2006.

Correction

FR Doc. E6-465, issued on January 18, 2006 on page 2963, regarding Securities Exchange Act Release No. 53092, incorrectly cited the date of the notice as January 10, 2005. The date should read January 10, 2006.

For the Commission, by the Division of Market Regulation, pursuant to delegated authority.¹
¹ 17 CFR 200.30-3(a)(12).
J. Lynn Taylor,
Assistant Secretary.

[FR Doc. E6-966 Filed 1-25-06; 8:45 am]

BILLING CODE 8010-01-P